DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing updates to the identifying information of one or more persons currently included on the Specially Designated Nationals and Blocked Persons List (SDN List). All property and interests in property subject to U.S. jurisdiction of these persons remain blocked, and U.S. persons are generally prohibited from engaging in transactions with them. In addition, OFAC is publishing updates to the identifying information of one or more persons currently included in the Non-SDN Chinese Military-Industrial Complex Companies List. OFAC is also publishing updates to the identifying information of one person currently included in the Sectoral Sanctions Identifications List.

DATES: See Supplementary Information section for applicable date(s).

FOR FURTHER INFORMATION CONTACT: OFAC: Andrea Gacki, Director, tel.: 202-622-2480; Associate Director for Global Targeting, tel.: 202-622-2420; Assistant Director for Licensing, tel.: 202-622-2480; Assistant Director for Regulatory Affairs, tel.: 202-622-4855; or Assistant Director for Sanctions Compliance & Evaluation, tel.: 202-622-2490.

SUPPLEMENTARY INFORMATION:

Electronic Availability

The Specially Designated Nationals and Blocked Persons List and additional information concerning OFAC sanctions programs are available on OFAC's website (www.treasury.gov/ofac).

Notice of OFAC Actions

A. On December 1, 2021, OFAC updated the entry on the SDN List for the following person, whose property and interests in property subject to U.S. jurisdiction continue to be blocked pursuant to Executive Order 13224 of September 23, 2001, “Blocking Property and Prohibiting Transactions With Persons Who Commit, Threaten to Commit, or Support Terrorism” and Executive Order 13582 of August 17, 2011, “Blocking Property of the Government of Syria and Prohibiting Certain Transactions with Respect to Syria.”

Individual

1. SHUKR, Fu'ad (a.k.a. CHAKAR, Fouad Ali; a.k.a. CHAKAR, Fu'ad; a.k.a. “CHAKAR, Al-Hajj Mohsin”), Harat Hurayk, Lebanon; Ozai, Lebanon; Al-Firdaws Building, Al-'Arid Street, Haret Hreik, Lebanon; Damascus, Syria; DOB 15 Apr 1961; alt. DOB 1962; POB An Nabi Shit, Ba'labakk, Biqa' Valley, Lebanon; alt. POB Beirut, Lebanon; nationality Lebanon; Additional Sanctions Information—Subject to Secondary Sanctions Pursuant to the Hizballah Financial Sanctions Regulations; Gender Male; Passport RL2418369 (Lebanon) (individual) [SDGT] [SYRIA] (Linked To: HIZBALLAH).

-to-703. 31`

SHUKR, Fu'ad (a.k.a. CHAKAR, Fouad Ali; a.k.a. CHAKAR, Fu'ad; a.k.a. “CHAKAR, Al-Hajj Mohsin”), Harat Hurayk, Lebanon; Ozai, Lebanon; Al-Firdaws Building, Al-'Arid Street, Haret Hreik, Lebanon; Damascus, Syria; DOB 15 Apr 1961; alt. DOB 1962; POB An Nabi Shit, Ba'labakk, Biqa' Valley, Lebanon; alt. POB Beirut, Lebanon; nationality Lebanon; Additional Sanctions Information—Subject to Secondary Sanctions Pursuant to the Hizballah Financial Sanctions Regulations; Gender Male; Passport RL2418369 (Lebanon) (individual) [SDGT] [SYRIA] (Linked To: HIZBALLAH).

B. On December 16, 2021, OFAC updated the entries on the SDN List for the following persons, whose property and interests in property subject to U.S. jurisdiction continue to be blocked under the relevant sanctions authorities listed below.

Individuals

1. AHMED, Abubaker Shariff (a.k.a. AHMED, Abubakar; a.k.a. AHMED, Abubaker Shariff; a.k.a. AHMED, Sheikh Abubakar; a.k.a. MAKABURI; a.k.a. SHARIFF, Abu Makaburi; a.k.a. SHARIFF, Abubaker), Majengo Area, Mombasa, Kenya; DOB 1962; alt. DOB 1967; POB Kenya; citizen Kenya (individual) [SOMALIA].

-to-

AHMED, Abubaker Shariff (a.k.a. AHMED, Abubakar; a.k.a. AHMED, Sheikh Abubakar; a.k.a. MAKABURI; a.k.a. SHARIFF, Abu Makaburi; a.k.a. SHARIFF, Abubaker), Majengo Area, Mombasa, Kenya; DOB 1962; alt. DOB 1967; POB Kenya; citizen Kenya (individual) [SOMALIA].

Blocked pursuant to one or more of the criteria set forth in Executive Order 13536 of April 12, 2010, “Blocking Property of Certain Persons Contributing to the Conflict in Somalia.”

2. AL-HUMAYQANI, 'Abd al-Wahhab Muhammad 'Abd al-Rahman (a.k.a. AL-HAMAYQANI, 'Abd al-Wahab; a.k.a. AL-HAMAYQANI, 'Abd al-Wahab Muhammad 'Abd al-Rahman; a.k.a. AL-HAMIQANI, 'Abd al-Wahab; a.k.a. AL-HAMIQANI, 'Abd al-Wahab al-Qawi; a.k.a. AL-HAMIQANI, 'Abd al-Wahab Muhammad 'Abd al-Rahman; a.k.a. AL-HAMIQANI, 'Abdul-Wahab Mohammed Abdul-Rahman; a.k.a. AL-HUMAIKANI, Abdul-Wahab Mohammed Abdul Rahman; a.k.a. AL-HUMAIKANI, Abdulwahhab Mohammed Abdulrahman; a.k.a. AL-HUMAIQANI, 'Abdul-Wahab Mohammed Abdul-Rahman; a.k.a. AL-HUMAIQANI, 'Abdul-Wahab Mohammed Abdul-Rahman; a.k.a. AL-HUMAYQANI, Abd al-Wahab; a.k.a. AL-HUMAYQANI, 'Abd al-Wahab al-Qawi; a.k.a. AL-HUMAYQANI, 'Abd al-Wahab Muhammad 'Abd al-Rahman; a.k.a. AL-HUMAYQANI, 'Abd al-Wahhab Muhammad 'Abd al-Rahim; a.k.a. AL-HUMAYQANI, Abdul Wahab; a.k.a. AL-HUMAYQANI, 'Abdul-Wahab Mohammed Abdul-Rahman; a.k.a. AL-HUMIQANI, 'Abd al-Wahab; a.k.a. “ABU AYED”; a.k.a. “ABU AYID”), Yemen; DOB 04 Aug 1972; POB al-Zahir, al-Bayda', Yemen; Passport 03902409 (Yemen) issued 13 Jun 2010 expires 13 Jun 2016; alt. Passport 01772281 (Yemen); Personal ID Card 1987853 (Yemen) (individual) [SDGT].

-to-

AL-HUMAYQANI, 'Abd al-Wahhab Muhammad 'Abd al-Rahman (a.k.a. AL-HAMAYQANI, 'Abd al-Wahab; a.k.a. AL-HAMAYQANI, 'Abd al-Wahab Muhammad 'Abd al-Rahman; a.k.a. AL-HAMIQANI, 'Abd al-Wahab; a.k.a. AL-HAMIQANI, 'Abd al-Wahab al-Qawi; a.k.a. AL-HAMIQANI, 'Abd al-Wahab Muhammad 'Abd al-Rahman; a.k.a. AL-HAMIQANI, 'Abdul-Wahab Mohammed Abdul-Rahman; a.k.a. AL-HUMAIKANI, Abdul-Wahab Mohammed Abdul Rahman; a.k.a. AL-HUMAIKANI, Abdulwahhab Mohammed Abdulrahman; a.k.a. AL-HUMAIQANI, 'Abdul-Wahab Mohammed Abdul-Rahman; a.k.a. AL-HUMAYQANI, Abd al-Wahab; a.k.a. AL-HUMAYQANI, 'Abd al-Wahab al-Qawi; a.k.a. AL-HUMAYQANI, 'Abd al-Wahab Muhammad 'Abd al-Rahman; a.k.a. AL-HUMAYQANI, 'Abd al-Wahhab Muhammad 'Abd al-Rahim; a.k.a. AL-HUMAYQANI, Abdul Wahab; a.k.a. AL-HUMAYQANI, 'Abdul-Wahab Mohammed Abdul-Rahman; a.k.a. AL-HUMIQANI, 'Abd al-Wahab; a.k.a. “ABU AYED”; a.k.a. “ABU AYID”), Yemen; DOB 04 Aug 1972; POB al-Zahir, al-Bayda', Yemen; Passport 03902409 (Yemen) issued 13 Jun 2010 expires 13 Jun 2016; alt. Passport 01772281 (Yemen); Personal ID Card 1987853 (Yemen) (individual) [SDGT].

Blocked pursuant to one or more of the criteria set forth in Executive Order 13224 of September 23, 2001, “Blocking Property and Prohibiting Transactions With Persons Who Commit, Threaten to Commit, or Support Terrorism.”

3. BEHZAD, Ahmad Abdulla Mohammad Abdulla (a.k.a. BAHZAD, Ahmad Abdullah Mohamed Abdullah; a.k.a. BEHZAD BSTAKI, Ahmad Abdullah Mohammed Abdullah; a.k.a. BEHZAD, Abdulla Mohd Abdulla; a.k.a. BEHZAD, Ahmad Abdulla Mohammad A; a.k.a. BEHZAD, Ahmad Abdulla Mohammad Abdulla; a.k.a. BEHZAD, Ahmad Abdulla Mohd Abdulla; a.k.a. BEHZAD, Ahmed Abdullah; a.k.a. “ABDULLA MOHAMAD ABDULLA MOHAMAD BEHZAD”; a.k.a. “ABDULLAH AHMAD ABDULLAH MOHAMAD BAHZAD”; a.k.a. “ABDULLAH MOHAMMED ABDULLAH BAHZAD”; a.k.a. “AHMED BEHZA”; a.k.a. “AHMED MOHAMMED ABDULLAH”; a.k.a. “MOHAMMED ABDULLAH MOHAMMED BAHZAD”), c/o SHAHBAZ KHAN GENERAL TRADING LLC, Dubai, United Arab Emirates; c/o FMF GENERAL TRADING LLC, Dubai, United Arab Emirates; Dubai, United Arab Emirates; Sharjah, United Arab Emirates; DOB 02 Nov 1971; POB Dubai, United Arab Emirates; citizen United Arab Emirates; Passport A1042768 (United Arab Emirates); alt. Passport A0269124 (United Arab Emirates) (individual) [SDNTK].

-to-

BEHZAD, Ahmad Abdulla Mohammad Abdulla (a.k.a. BAHZAD, Ahmad Abdullah Mohamed Abdullah; a.k.a. BEHZAD BSTAKI, Ahmad Abdullah Mohammed Abdullah; a.k.a. BEHZAD, Abdulla Mohd Abdulla; a.k.a. BEHZAD, Ahmad Abdulla Mohammad A; a.k.a. BEHZAD, Ahmad Abdulla Mohd Abdulla; a.k.a. BEHZAD, Ahmed Abdullah; a.k.a. “ABDULLA MOHAMAD ABDULLA MOHAMAD BEHZAD”; a.k.a. “ABDULLAH AHMAD ABDULLAH MOHAMAD BAHZAD”; a.k.a. “ABDULLAH MOHAMMED ABDULLAH BAHZAD”; a.k.a. “AHMED BEHZA”; a.k.a. “AHMED MOHAMMED ABDULLAH”; a.k.a. “MOHAMMED ABDULLAH MOHAMMED BAHZAD”), c/o SHAHBAZ KHAN GENERAL TRADING LLC, Dubai, United Arab Emirates; c/o FMF GENERAL TRADING LLC, Dubai, United Arab Emirates; Dubai, United Arab Emirates; Sharjah, United Arab Emirates; DOB 02 Nov 1971; POB Dubai, United Arab Emirates; citizen United Arab Emirates; Passport A1042768 (United Arab Emirates); alt. Passport A0269124 (United Arab Emirates) (individual) [SDNTK].

Blocked pursuant to one or more of the criteria under the Foreign Narcotics Kingpin Designation Act, 21 U.S.C. 1904(b).

4. GADDAFI, Mutassim (a.k.a. AL-GADDAFI, Mutassim; a.k.a. AL-QADHAFI, Mutassim; a.k.a. ELKADDAFI, Mutassim; a.k.a. EL-QADDAFI, Mutassim; a.k.a. GADDAFI, Mutassim; a.k.a. GADHAFI, Mutassim Billah; a.k.a. GHADAFFI, Mutassim; a.k.a. GHATHAFI, Mutassim; a.k.a. QADDAFI, Mutassim; a.k.a. QADHAFI, Mutassim); DOB 1975 (individual) [LIBYA2].

-to-

GADDAFI, Mutassim (a.k.a. AL-GADDAFI, Mutassim; a.k.a. AL-QADHAFI, Mutassim; a.k.a. ELKADDAFI, Mutassim; a.k.a. EL-QADDAFI, Mutassim; a.k.a. GADHAFI, Mutassim Billah; a.k.a. GHADAFFI, Mutassim; a.k.a. GHATHAFI, Mutassim; a.k.a. QADDAFI, Mutassim; a.k.a. QADHAFI, Mutassim); DOB 1975 (individual) [LIBYA2].

Blocked pursuant to one or more of the criteria set forth in Executive Order 13566 of February 25, 2011, “Blocking Property and Prohibiting Certain Transactions Related to Libya.”

5. KIM, Kyong Ok (a.k.a. KIM, Kyong Ok), Korea, North; DOB 01 Jan 1937 to 31 Dec 1938; Secondary sanctions risk: North Korea Sanctions Regulations, sections 510.201 and 510.210; Transactions Prohibited For Persons Owned or Controlled By U.S. Financial Institutions: North Korea Sanctions Regulations section 510.214; First Vice Director of the Organization and Guidance Department (individual) [DPRK2].

-to-

KIM, Kyong Ok, Korea, North; DOB 01 Jan 1937 to 31 Dec 1938; Secondary sanctions risk: North Korea Sanctions Regulations, sections 510.201 and 510.210; Transactions Prohibited For Persons Owned or Controlled By U.S. Financial Institutions: North Korea Sanctions Regulations section 510.214; First Vice Director of the Organization and Guidance Department (individual) [DPRK2].

Blocked pursuant to one or more of the criteria set forth in Executive Order 13687 of January 2, 2015, “Imposing Additional Sanctions With Respect to North Korea.”

Entity

1. TARIQ ABU SHANAB EST. FOR TRADE & COMMERCE (a.k.a. ABU SHANAB METALS ESTABLISHMENT; a.k.a. AMIN ABU SHANAB & SONS CO.; a.k.a. AMIN ABU SHANAB AND SONS CO.; a.k.a. AMIN ABU SHANAB AND SONS CO.; a.k.a. SHANAB METALS ESTABLISHMENT; a.k.a. TARIQ ABU SHANAB EST.; a.k.a. TARIQ ABU SHANAB EST. FOR TRADE AND COMMERCE; a.k.a. TARIQ ABU SHANAB METALS ESTABLISHMENT), Musherfeh, P.O. Box 766, Zarka, Jordan [IRAQ2].

-to-

TARIQ ABU SHANAB EST. FOR TRADE & COMMERCE (a.k.a. ABU SHANAB METALS ESTABLISHMENT; a.k.a. AMIN ABU SHANAB & SONS CO.; a.k.a. AMIN ABU SHANAB AND SONS CO.; a.k.a. SHANAB METALS ESTABLISHMENT; a.k.a. TARIQ ABU SHANAB EST.; a.k.a. TARIQ ABU SHANAB EST. FOR TRADE AND COMMERCE; a.k.a. TARIQ ABU SHANAB METALS ESTABLISHMENT), Musherfeh, P.O. Box 766, Zarka, Jordan [IRAQ2].

Blocked pursuant to one or more of the criteria set forth in Executive Order 13315 of August 28, 2003, “Blocking Property of the Former Iraqi Regime, Its Senior Officials and Their Family Members, and Taking Certain Other Actions” and Executive Order 13350 of July 29, 2004, “Termination of Emergency Declared in Executive Order 12722 With Respect to Iraq and Modification of Executive Order 13290, Executive Order 13303, and Executive Order 13315.”

C. On December 16, 2021, OFAC updated the entries on the Non-SDN Chinese Military-Industrial Complex Companies List for the following persons, who remain subject to the prohibitions in Executive Order 13959 of November 12, 2020, “Addressing the Threat From Securities Investments That Finance Communist Chinese Military Companies,” as amended by Executive Order 14032 of June 3, 2021, “Addressing the Threat from Securities Investments that Finance Certain Companies of the People's Republic of China.”

Entities

1. CHINA SOUTH INDUSTRIES GROUP CORPORATION (a.k.a. CHINA SOUTH INDUSTRIES GROUP CO., LTD.; a.k.a. CHINA SOUTH INDUSTRIES GROUP CORPORATION; a.k.a. “CSGC”; a.k.a. “CSIGC”), No. 46, Sanlihe Road, Xicheng District, Beijing 100032, China; No. 10 Yard, Chedaogou, Haidian District, Beijing 100089, China; Issuer Name China South Industries Group Co., Ltd.; alt. Issuer Name China South Industries Group Corporation; ISIN CND10000KTG5; alt. ISIN CND10000K5V9; alt. ISIN CND10000KTF7; alt. ISIN CND10000GGC9; alt. ISIN CND10000K0B2; alt. ISIN CND10000GGD7; alt. ISIN CND10000KTD2; alt. ISIN CND10000K5W7; alt. ISIN CND10001TRP9; alt. ISIN CND10001TRQ7; Target Type Private Company; Effective Date (CMIC) 02 Aug 2021; Purchase/Sales For Divestment Date (CMIC) 03 Jun 2022; Listing Date (CMIC) 03 Jun 2021; Unified Social Credit Code (USCC) 91110000710924929L (China) [CMIC-EO13959].

-to-

CHINA SOUTH INDUSTRIES GROUP CORPORATION (a.k.a. CHINA SOUTH INDUSTRIES GROUP CO., LTD.; a.k.a. “CSGC”; a.k.a. “CSIGC”), No. 46, Sanlihe Road, Xicheng District, Beijing 100032, China; No. 10 Yard, Chedaogou, Haidian District, Beijing 100089, China; Issuer Name China South Industries Group Co., Ltd.; alt. Issuer Name China South Industries Group Corporation; ISIN CND10000KTG5; alt. ISIN CND10000K5V9; alt. ISIN CND10000KTF7; alt. ISIN CND10000GGC9; alt. ISIN CND10000K0B2; alt. ISIN CND10000GGD7; alt. ISIN CND10000KTD2; alt. ISIN CND10000K5W7; alt. ISIN CND10001TRP9; alt. ISIN CND10001TRQ7; Target Type Private Company; Effective Date (CMIC) 02 Aug 2021; Purchase/Sales For Divestment Date (CMIC) 03 Jun 2022; Listing Date (CMIC) 03 Jun 2021; Unified Social Credit Code (USCC) 91110000710924929L (China) [CMIC-EO13959].

2. CHINA NUCLEAR ENGINEERING CORPORATION LIMITED (a.k.a. CHINA NATIONAL ENGINEERING & CONSTRUCTION CORPORATION LIMITED; a.k.a. CHINA NUCLEAR ENGINEERING & CONSTRUCTION CORP LTD; a.k.a. CHINA NUCLEAR ENGINEERING CORPORATION LIMITED; a.k.a. “CNEC”; a.k.a. “CNECC”), No. 12 Chegongzhuang Avenue, Xicheng District, Beijing 100037, China; Equity Ticker 601611 CN; Issuer Name China Nuclear Engineering Corporation Limited; ISIN CNE100002896; alt. ISIN CND10003XJ14; Target Type Public Company; Effective Date (CMIC) 02 Aug 2021; Purchase/Sales For Divestment Date (CMIC) 03 Jun 2022; Listing Date (CMIC) 03 Jun 2021; Unified Social Credit Code (USCC) 91110000717828569P (China) [CMIC-EO13959].

-to-

CHINA NUCLEAR ENGINEERING CORPORATION LIMITED (a.k.a. CHINA NATIONAL ENGINEERING & CONSTRUCTION CORPORATION LIMITED; a.k.a. CHINA NUCLEAR ENGINEERING & CONSTRUCTION CORP LTD; a.k.a. “CNEC”; a.k.a. “CNECC”), No. 12 Chegongzhuang Avenue, Xicheng District, Beijing 100037, China; Equity Ticker 601611 CN; Issuer Name China Nuclear Engineering Corporation Limited; ISIN CNE100002896; alt. ISIN CND10003XJ14; Target Type Public Company; Effective Date (CMIC) 02 Aug 2021; Purchase/Sales For Divestment Date (CMIC) 03 Jun 2022; Listing Date (CMIC) 03 Jun 2021; Unified Social Credit Code (USCC) 91110000717828569P (China) [CMIC-EO13959].

D. On December 16, 2021, OFAC updated the entry on the Sectoral Sanctions Identification List for the following person, who remains subject to the prohibitions in Executive Order 13662 of March 20, 2014, “Blocking Property of Additional Persons Contributing to the Situation in Ukraine.”

Entity

1. OJSC NOVOKUYBYSHEV REFINERY (a.k.a. NOVOKUIBYSHEVSK REFINERY; a.k.a. OJSC NOVOKUYBYSHEV REFINERY), Novokuibyshevsk, Samara region 446207, Russia; Email Address sekr@nknpz.rosneft.ru; Executive Order 13662 Directive Determination—Subject to Directive 2; alt. Executive Order 13662 Directive Determination—Subject to Directive 4; For more information on directives, please visit the following link: http://www.treasury.gov/resourcecenter/sanctions/Programs/Pages/ukraine.aspx#directives. [UKRAINE-EO13662] (Linked To: OPEN JOINT-STOCK COMPANY ROSNEFT OIL COMPANY).

-to-

OJSC NOVOKUYBYSHEV REFINERY (a.k.a. NOVOKUIBYSHEVSK REFINERY), Novokuibyshevsk, Samara region 446207, Russia; Email Address sekr@nknpz.rosneft.ru; Executive Order 13662 Directive Determination—Subject to Directive 2; alt. Executive Order 13662 Directive Determination—Subject to Directive 4; For more information on directives, please visit the following link: http://www.treasury.gov/resource-center/sanctions/Programs/Pages/ukraine.aspx#directives. [UKRAINE-EO13662] (Linked To: OPEN JOINT-STOCK COMPANY ROSNEFT OIL COMPANY).

Dated: December 16, 2021.
Andrea M. Gacki,
Director, Office of Foreign Assets Control, U.S. Department of the Treasury.

[FR Doc. 2021-27695 Filed 12-21-21; 8:45 am]

BILLING CODE 4810-AL-P